DEPARTMENT OF STATE

[Public Notice: 9258]

Advisory Committee on International Economic Policy; Notice of Open Meeting

The Advisory Committee on International Economic Policy (ACIEP) will meet between 2:00 and 5:00 p.m., on Wednesday, September 30, 2015, in New York City, NY, at 383 Madison Avenue, 13th floor, in conference room 1311. The meeting will be hosted by the Assistant Secretary of State for Economic and Business Affairs, Charles H. Rivkin and Committee Chair Paul R. Charron. The ACIEP serves the U.S. government in a solely advisory capacity, and provides advice concerning topics in international economic policy. It is expected that the ACIEP subcommittees will provide updates on their work.

This meeting is open to public participation, though seating is limited. Entry to the building is controlled. To obtain pre-clearance for entry, members of the public planning to attend should no later than Monday, September 21, provide their full name and professional affiliation to Alan Krill by email: KrillA@state.gov. Requests for reasonable accommodation should be made to Alan Krill before Monday, September 21. Requests made after that date will be considered, but might not be possible to fulfill.

For additional information, contact Alan Krill, Office of Economic Policy Analysis and Public Diplomacy, Bureau of Economic and Business Affairs, at (202) 647-1310, or KrillA@state.gov.

Dated: August 31, 2015.
Alan Krill,
Alternate Designated Federal Official, Office of Economic Policy Analysis and Public Diplomacy, U.S. Department of State.

[FR Doc. 2015-22703 Filed 9-8-15; 8:45 am]

BILLING CODE 4710-07-P